DEPARTMENT OF THE INTERIOR

Fish and Wildlife Service

[FWS-R2-ES-2015-N133; FXES11130200000-156-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before August 24, 2015.

ADDRESSES: Susan Jacobsen, Chief, Division of Classification and Restoration, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6920.

SUPPLEMENTARY INFORMATION: The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-009926

Applicant: Gulf South Research Corporation, Baton Rouge, Louisiana.

Applicant requests an amendment to a current permit for research and recovery purposes to conduct presence/absence surveys of black-capped vireo (Vireo atricapilla) within Texas and Oklahoma.

Permit TE-67910B

Applicant: Cherokee National Environmental Solutions LLC., Catoosa, Oklahoma.

Applicant requests a new permit for research and recovery purposes to conduct presence/absence surveys of American burying beetle (Nicrophorus americanus) within Arkansas, Kansas, Nebraska, and Oklahoma.

Permit TE-67912B

Applicant: Chloeta Fire, LLC., Jay, Oklahoma.

Applicant requests a new permit for research and recovery purposes to conduct presence/absence surveys of American burying beetle (Nicrophorus americanus) within Oklahoma.

Permit TE-88519A

Applicant: U.S. Forest Service—Lincoln National Forest, Cloudcroft, New Mexico.

Applicant requests an amendment to a current permit for research and recovery purposes to conduct presence/absence surveys for New Mexico meadow jumping mouse (Zapus hudsonius luteus) within New Mexico.

Permit TE-043231

Applicant: Stantec Consulting Services, Inc., Sandy, Utah.

Applicant requests a renewal to a current permit for research and recovery purposes to conduct presence/absence surveys for southwestern willow flycatcher (Empidonax traillii extimus) within Arizona, Colorado, New Mexico, Nevada, and Utah.

Permit TE-181762

Applicant: Sea Turtle Inc., South Padre Island, Texas.

Applicant requests a renewal to a current permit for research and recovery purposes to conduct presence/absence surveys, stranding activities, holding, and rehabilitation for Kemp's ridley (Lepidochelys kempii) and hawksbill (Eretmochelys imbricata) sea turtles within Texas.

Permit TE-67917B

Applicant: Caitlin Gabor, San Marcos, Texas.

Applicant requests a new permit for research and recovery purposes to conduct presence/absence surveys of Barton Springs salamander (Eurycea sosorum) within Texas.

Permit TE-67919B

Applicant: Kartye Land Management, LLC., Lufkin, Texas.

Applicant requests a new permit for research and recovery purposes to conduct presence/absence surveys of golden-cheeked warbler (Dendroica chrysoparia), black-capped vireo (Vireo atricapilla), and red-cockaded woodpecker (Picoides borealis) within Texas.

Permit TE-822998

Applicant: U.S. Forest Service—Coronado National Forest, Tucson, Arizona.

Applicant requests a renewal to a current permit for research and recovery purposes to conduct presence/absence surveys of the following species within Arizona and New Mexico:

• Desert pupfish (Cyprinodon macularius)

• Gila chub (Gila intermedia)

• Gila topminnow (Poeciliopsis occidentalis occidentalis)

• Jaguar (Pathera onca)

• Lesser long-nosed bat (Leptonycteris curasoae yerbabuenae)

• Loach minnow (Rhinichthys cobitis)

• Masked bobwhite quail (Colinus viginianus ridgwayi)

• Mexican long-nosed bat (Leptonycteris nivalis)

• Mount Graham red squirrel (Tamiasciurus hudsonius grahamensis)

• Northern aplomado falcon (Falco femoralis septentrionalis)

• Ocelot (Leopardus pardalis)

• Sonoran tiger salamander (Ambystoma tigrinum stebbinsi)

• Southwestern willow flycatcher (Empidonax traillii extimus)

• Spikedace (Meda fulgida)

• Yaqui chub (Gila purpurea)

Permit TE-051832

Applicant: Phoenix Zoo, Phoenix, Arizona.

Applicant requests an amendment to a current permit for research and recovery purposes to conduct husbandry and holding of Gila chub (Gila intermedia) within the zoo in Arizona.

Permit TE-69881B

Applicant: Brendan Larsen, Tucson, Arizona.

Applicant requests a new permit for research and recovery purposes to conduct presence/absence surveys, mist netting, and holding of lesser long-nosed bats (Leptonycteris curasoae yerbabuenae) within Arizona.

Permit TE-800923

Applicant: University of Arizona, Tucson, Arizona.

Applicant requests a renewal to a current permit for research and recovery purposes to conduct presence/absence surveys for the following species in Arizona:

• Desert pupfish (Cyprinodon macularius)

• Gila chub (Gila intermedia)

• Gila topminnow (Poeciliopsis occidentalis occidentalis)

• Loach minnow (Rhinichthys cobitis)

• Spikedace (Meda fulgida)

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: July 15, 2015.
Joy E. Nicholopoulos,
Acting Regional Director, Southwest Region, U.S. Fish and Wildlife Service.

[FR Doc. 2015-18052 Filed 7-22-15; 8:45 am]

BILLING CODE 4310-55-P